DEPARTMENT OF VETERANS AFFAIRS

[OMB Control No. 2900-0014]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine to claimants training program attendance.

DATES: Written comments and recommendations on the proposed collection of information should be received on or before June 27, 2005.

ADDRESSES: Submit written comments on the collection of information to Nancy J. Kessinger, Veterans Benefits Administration (20M35), Department of Veterans Affairs, 810 Vermont Avenue, NW., Washington, DC 20420 or e-mail: irmnkess@vba.va.gov. Please refer to “OMB Control No. 2900-0014” in any correspondence.

FOR FURTHER INFORMATION CONTACT: Nancy J. Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Authorization and Certification of Entrance or Reentrance into Rehabilitation and Certification of Status, VA Form 28-1905.

OMB Control Number: 2900-0014.

Type of Review: Extension of a currently approved collection.

Abstract: VA case managers use VA Form 28-1905 to identify program participants and provide specific guidelines on the planned program of course to facilities providing education, training, or other rehabilitation services. Facility officials certify that the claimant has enrolled in the planned program of course and submit the form to VA. VA uses the information collected to ensure that claimants do not receive benefits for periods for which they did not participate in any rehabilitation, special restorative or specialized vocational training programs.

Affected Public: Not-for-profit institutions, individuals or households, business or other for-profit, farms, Federal government, and State, local or tribal government.

Estimated Annual Burden: 6,833 hours.

Estimated Average Burden Per Respondent: 5 minutes.

Frequency of Response: Twice a year.

Estimated Number of Respondents: 41,000.

Estimated Total Annual Responses: 82,000.

Dated: April 13, 2005.
By direction of the Secretary:
Cindy Stewart,
Program Analyst, Records Management Service.

[FR Doc. E5-1996 Filed 4-27-05; 8:45 am]

BILLING CODE 8320-01-P